DEPARTMENT OF HOMELAND SECURITY

Federal Emergency Management Agency

[Docket ID FEMA-2018-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of August 2, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Dated: April 3, 2018.
Roy E. Wright,
Deputy Associate Administrator for Insurance and Mitigation, Department of Homeland Security, Federal Emergency Management Agency.

Community | Community map repository address
Lauderdale County, Alabama and Incorporated Areas
Docket No.: FEMA-B-1655
Unincorporated Areas of Lauderdale County | Lauderdale County Road Department, 1630 State Street, Florence, AL 35630.
Lawrence County, Alabama and Incorporated Areas
Docket No.: FEMA-B-1655
Town of Hillsboro | Town Hall, 11355 Main Street, Hillsboro, AL 35643.
Unincorporated Areas of Lawrence County | Lawrence County Engineering Department, 160 Parker Road, Moulton, AL 35650.
Marshall County, Alabama and Incorporated Areas
Docket No.: FEMA-B-1655
Unincorporated Areas of Marshall County | Marshall County Courthouse, 424 Blount Avenue, Guntersville, AL 35976.
Bryan County, Georgia and Incorporated Areas
Docket No.: FEMA-B-1701
City of Richmond Hill | Planning and Zoning Department, 85 Richard R. Davis Drive, Richmond Hill, GA 31324.
Unincorporated Areas of Bryan County | Bryan County Engineering and Inspections Department, 66 Captain Matthew Freeman Drive, Suite 201, Richmond Hill, GA 31324.
McIntosh County, Georgia and Incorporated Areas
Docket No.: FEMA-B-1701
City of Darien | City Hall, 106 Washington Street, Darien, GA 31305.
Unincorporated Areas of McIntosh County | McIntosh County Building and Zoning Department, 100 Madison Street, Darien, GA 31305.
Butler County, Pennsylvania (All Jurisdictions)
Docket No.: FEMA-B-1412, FEMA-B-1546, FEMA-B-1709
Borough of Bruin | Borough Secretary's Office, 126 Water Street, Bruin, PA 16022.
Borough of Callery | Borough Hall, 199 Railroad Street, Callery, PA 16024.
Borough of Chicora | Borough Office, 110 Firehouse Cartway, Chicora, PA 16025.
Borough of Connoquenessing | Borough Office, 228 Constitution Avenue, Connoquenessing, PA 16027.
Borough of East Butler | Borough Municipal Building, 1105 Randolph Avenue, East Butler, PA 16029.
Borough of Evans City | Borough Building, 204 B South Jackson Street, Evans City, PA 16033.
Borough of Harmony | Borough Building, 217 Mercer Street, Harmony, PA 16037.
Borough of Harrisville | Borough Office, 117 South Main Street, Harrisville, PA 16038.
Borough of Karns City | Borough Office, 116 Main Street, Karns City, PA 16041.
Borough of Mars | Borough Office, 598 Spring Street, Mars, PA 16046.
Borough of Petrolia | Petrolia Borough Secretary's Office, 110 Coon Dog Lane, Chicora, PA 16025.
Borough of Prospect | Borough Office, 159 Monroe Street, Prospect, PA 16052.
Borough of Saxonburg | Borough Office, 420 West Main Street, Saxonburg, PA 16056.
Borough of Seven Fields | Borough Municipal Building, 2200 Garden Drive, Suite 100, Seven Fields, PA 16046.
Borough of Valencia | Borough Building, 61 Almira Street, Valencia, PA 16059.
Borough of West Liberty | West Liberty Borough Building, 134 Rhoer Road, Slippery Rock, PA 16057.
Borough of Zelienople | Municipal Building, 111 West New Castle Street, Zelienople, PA 16063.
City of Butler | City Building, 140 West North Street, Butler, PA 16001.
Township of Adams | Adams Township Municipal Building, 690 Valencia Road, Mars, PA 16046.
Township of Allegheny | Allegheny Township Municipal Building, 373 Foxburg Road, Parker, PA 16049.
Township of Brady | Brady Township Building, 141 West Liberty Road, Slippery Rock, PA 16057.
Township of Buffalo | Buffalo Township Municipal Office, 109 Bear Creek Road, Sarver, PA 16055.
Township of Butler | Township Municipal Building, 290 South Duffy Road, Butler, PA 16001.
Township of Center | Center Township Municipal Building, 150 Henricks Road, Butler, PA 16001.
Township of Cherry | Cherry Township Secretary's Office, 1573 West Sunbury Road, #8, West Sunbury, PA 16061.
Township of Clay | Clay Township Municipal Building, 1115 Euclid School Road, Butler, PA 16001.
Township of Clearfield | Clearfield Township Municipal Office, 103 McGrady Road, Fenelton, PA 16034.
Township of Clinton | Clinton Township Municipal Building, 711 Saxonburg Boulevard, Saxonburg, PA 16056.
Township of Concord | Concord Township Building, 690 Hooker Road, West Sunbury, PA 16061.
Township of Connoquenessing | Connoquenessing Township Office, 102 Township Drive, Renfrew, PA 16053.
Township of Cranberry | Municipal Center, 2525 Rochester Road, Suite 400, Cranberry Township, PA 16066.
Township of Donegal | Donegal Township Office, 400 East Slippery Rock Road, Chicora, PA 16025.
Township of Fairview | Fairview Township Secretary's Office, 1571 Hooker Road, Karns City, PA 16041.
Township of Forward | Forward Township Municipal Building, 207 Ash Stop Road, Evans City, PA 16033.
Township of Franklin | Franklin Township Municipal Building, 191 Election House Road, Prospect, PA 16052.
Township of Jackson | Jackson Township Office, 140 Magill Road, Zelienople, PA 16063.
Township of Jefferson | Jefferson Township Municipal Building, 157 Great Belt Road, Butler, PA 16002.
Township of Lancaster | Lancaster Township Office, 113 Kings Alley, Harmony, PA 16037.
Township of Marion | Marion Township Office, 2275 West Sunbury Road, Suite B, Boyers, PA 16020.
Township of Mercer | Mercer Township Secretary's Office, 1047 Harmony Road, Harrisville, PA 16038.
Township of Middlesex | Middlesex Township Municipal Building, 133 Browns Hill Road, Valencia, PA 16059.
Township of Muddy Creek | Muddy Creek Township Building, 420 Stanford Road, Prospect, PA 16052.
Township of Oakland | Oakland Township Municipal Building, 565 Chicora Road, Butler, PA 16001.
Township of Parker | Parker Township Municipal Building, 107 Snake Road, Petrolia, PA 16050.
Township of Penn | Penn Township Municipal Building, 157 East Airport Road, Butler, PA 16002.
Township of Slippery Rock | Township Office, 155 Branchton Road, Slippery Rock Township, PA 16057.
Township of Summit | Summit Township Office, 502 Bonniebrook Road, Butler, PA 16002.
Township of Venango | Venango Township Building, 332 Eau Claire Road, Boyers, PA 16020.
Township of Washington | Washington Township Building, 241 Old Brick Road, Hilliards, PA 16040.
Township of Winfield | Winfield Township Office, 194 Brose Road, Cabot, PA 16023.
Township of Worth | Worth Township Building, 815 West Park Road, Slippery Rock, PA 16057.
Calhoun County, Texas and Incorporated Areas
Docket No.: FEMA-B-1709
Unincorporated Areas of Calhoun County | Calhoun County Courthouse, 211 South Ann Street, Port Lavaca, TX 77979.

[FR Doc. 2018-08591 Filed 4-24-18; 8:45 am]

BILLING CODE 9110-12-P